DEPARTMENT OF TRANSPORTATION

Federal Transit Administration

FTA Fiscal Year 2002 Apportionments, Allocations and Program Information

AGENCY: Federal Transit Administration (FTA), DOT.

ACTION: Notice.

SUMMARY: The Department of Transportation (DOT) and Related Agencies Appropriations Act for Fiscal Year 2002 (FY 2002 DOT Appropriations Act) (Pub. L. 107-87) was signed into law by President Bush on December 18, 2001, and provides FY 2002 appropriations for the Federal Transit Administration (FTA) transit assistance programs. Based upon this Act, the Transportation Equity Act for the 21st Century (TEA-21), and 49 U.S.C. Chapter 53, this notice contains a comprehensive list of apportionments and allocations for transit programs.

In addition, prior year unobligated allocations for the section 5309 New Starts and Bus Programs are listed. The FTA policy regarding pre-award authority to incur project costs, Letter of No Prejudice Policy, and other pertinent program information are provided.

FOR FURTHER INFORMATION CONTACT: The appropriate FTA Regional Administrator for grant-specific information and issues; Mary Martha Churchman, Director, Office of Resource Management and State Programs, (202) 366-2053, for general information about the Urbanized Area Formula Program, the Nonurbanized Area Formula Program, the Rural Transit Assistance Program, the Elderly and Persons with Disabilities Program, the Clean Fuels Formula Program, the Over-the-Road Bus Accessibility Program, the Capital Investment Program, or the Job Access and Reverse Commute Program; or Paul L. Verchinski, Chief, Statewide and Intermodal Planning Division, (202) 366-1626, for general information concerning the Metropolitan Planning Program and the Statewide Planning and Research Program; or Henry Nejako, Program Management Officer, Office of Research, Demonstration and Innovation, (202) 366-3765, for general information about the National Planning and Research Program.

SUPPLEMENTARY INFORMATION:

Table of Contents

I. Background

II. Overview

A. Fiscal Year 2002 Appropriations

B. TEA-21 Authorized Program Levels

C. Project Management Oversight

D. VIII Paralympiad for the Disabled

III. Fiscal Year 2002 Focus Areas

A. Transit Safety and Security

B. 2000 Census

C. TEAM-Web

D. New Starts Rule and Workshops

E. Intelligent Transportation Systems

F. Environmental Streamlining

IV. Metropolitan Planning Program and Statewide Planning and Research Program

A. Metropolitan Planning Program

B. Statewide Planning and Research Program

C. Data Used for Metropolitan Planning and Statewide Planning and Research Apportionments

D. FHWA Metropolitan Planning Program

E. Local Match Waiver for Specified Planning Activities

F. Planning Emphasis Areas for Fiscal Year 2002

G. Federal Planning Certification Reviews

H. Consolidated Planning Grants

I. New Starts Approval to Enter Preliminary Engineering and Final Design

V. Urbanized Area Formula Program

A. Total Urbanized Area Formula Apportionments

B. Fiscal Year 2001 Apportionment Adjustments

C. Data Used for Urbanized Area Formula Apportionments

D. Urbanized Area Formula Apportionments to Governors

E. Transit Enhancements

F. Fiscal Year 2002 Operating Assistance

G. Designated Transportation Management Areas

H. Urbanized Area Formula Funds Used for Highway Purposes

I. National Transit Database Internet Reporting and Redesign Effort

VI. Nonurbanized Area Formula Program and Rural Transit Assistance Program (RTAP)

A. Nonurbanized Area Formula Program

B. Rural Transit Assistance Program (RTAP)

VII. Elderly and Persons with Disabilities Program

VIII. FHWA Surface Transportation Program and Congestion Mitigation and Air Quality Funds Used for Transit Purposes (Title 23, U.S.C. 104)

A. Transfer Process

B. Matching Share for FHWA Transfers

IX. Capital Investment Program

A. Fixed Guideway Modernization

B. New Starts

C. Bus

X. Job Access and Reverse Commute Program

XI. Over-the-Road Bus Accessibility Program

XII. Clean Fuels Formula Program

XIII.National Planning and Reserach Program

XIV. Unit Values of Data for Urbanized Area Formula Program, Nonurbanized Area Formula Program, anf Fixed Guideway Modernization

XV. Period of Availability of Funds

XVI. Automatic Pre-Award Authority to Incur Project Costs

A. Policy

B. Conditions

C. Environmental, Planning, and Other Federal Requirements

D. Pre-award Authority for New Starts Projects

1. Preliminary Engineering and Final Design

2. Acquisition Activities

3. National Environmental Policy Act (NEPA) Activities

XVII. Letters of No Prejudice (LONP) Policy

A. Policy

B. Conditions

C. Environmental, Planning, and Other Federal Requirements

D. Request for LONP

XVIII. FTA Homepage on the Internet

XIX. FTA Fiscal Tear 2002 Annual List of Certifications and Assurances

XX. Grant Application Procedures

Tables

1. FTA FY 2002 Appropriations for Grant Programs

2. FTA FY 2002 Metropolitan Planning Program and Statewide Planning and Research Program Apportionments

3. FHWA FY 2002 Estimated Metropolitan Planning (PL) Program Apportionments

4. FTA FY 2002 Urbanized Area Formula Apportionments

5. FTA FY 2002 Nonurbanized Area Formula Apportionments, and Rural Transit Assistance Program (RTAP) Allocations

6. FTA FY 2002 Elderly and Persons with Disabilities Apportionments

7. FTA FY 2002 Fixed Guideway Modernization Apportionments

8. FTA FY 2002 New Starts Allocations

8A. FTA Prior Year Unobligated New Starts Allocations

9. FTA FY 2002 Bus Allocations

9A. FTA Prior Year Unobligated Bus Allocations

10. FTA FY 2002 Job Access and Reverse Commute Program Allocations

11. FTA FY 2002 National Planning and Research Program Allocations

12. FTA TEA-21 Authorization Levels (Guaranteed Funding Only)

12A. FTA TEA-21 Authorization Levels (Guaranteed and Non-Guaranteed) Funding)

13. FTA FY 2002 Apportionment Formula for Urbanized Area Formula Program

14. FTA FY 1998-2003 Fixed Guideway Modernization Program Apportionment Formula

15. FTA FY 2002 Formula Grant Apportionments Unit Values of Data

I. Background

Metropolitan Planning funds are apportioned by statutory formula to the Governors for allocation to Metropolitan Planning Organizations (MPOs) in urbanized areas or portions thereof to provide funds for their Unified Planning Work Programs. Statewide Planning and Research funds are apportioned to States by statutory formula to provide funds for their Statewide Planning and Research Programs. Urbanized Area Formula Program funds are apportioned by statutory formula to urbanized areas and to Governors to provide capital, operating and planning assistance in urbanized areas. Nonurbanized Area Formula Program funds are apportioned by statutory formula to Governors for capital, operating and administrative assistance in nonurbanized areas. Elderly and Persons with Disabilities Program funds are apportioned by statutory formula to Governors to provide capital assistance to organizations providing transportation service for the elderly and persons with disabilities. Fixed Guideway Modernization funds are apportioned by statutory formula to specified urbanized areas for capital improvements in rail and other fixed guideways. New Starts identified in the FY 2002 DOT Appropriations Act and Bus Allocations identified in the Conference Report accompanying the Act are included in this notice. FTA will honor those designations included in report language to the extent that the projects meet the statutory intent of the specific program. Job Access and Reverse Commute (JARC) funds are awarded on a competitive basis. JARC projects identified in the FY 2002 DOT Appropriations Act are included in this notice. Over-the-Road Bus Accessibility Program projects are also competitively selected.

II. Overview

A. Fiscal Year 2002 Appropriations

The FY 2002 funding amounts for FTA programs are displayed in Table 1. The following text provides a narrative explanation of the funding levels and other factors affecting the apportionments and allocations.

B. TEA-21 Authorized Program Levels

TEA-21 provides a combination of trust and general fund authorizations that total $7.737 billion for the FY 2002 FTA program. Of this amount, $6.747 billion was guaranteed under the discretionary spending cap and made available in the FY 2002 DOT Appropriations Act. See Table 12 for fiscal years 1998-2003 guaranteed funding levels by program and Table 12A for the total of guaranteed and non-guaranteed levels by program.

Information regarding estimates of the funding levels for FY 2003 by State and urbanized area is available on the FTA Web site. The FY 2003 numbers are intended for planning purposes only but may be used for programming Metropolitan Transportation Improvement Programs and Statewide Transportation Improvement Programs. Actual apportionment figures for FY 2002 are contained in this notice, while apportionment figures for FY 1998-FY 2001 can be found in the appropriate FTA fiscal year apportionment notice, which is available on the FTA Web site.

C. Project Management Oversight

Section 5327 of Title 49 U.S.C., permits the Secretary of Transportation to use up to one-half percent of the funds made available under the Urbanized Area Formula Program and the Nonurbanized Area Formula Program, and three-quarters percent of funds made available under the Capital Investment Program to contract with any person to oversee the construction of any major project under these statutory programs to conduct safety, procurement, management and financial reviews and audits, and to provide technical assistance to correct deficiencies identified in compliance reviews and audits. Language in the 2002 DOT Appropriations Act increases the amount made available under the Capital Investment Program for oversight activities to one percent.

D. VIII Paralympiad for the Disabled

The FY 2002 DOT Appropriations Act made $5 million available from the formula grants program for the VIII Paralympaid for the Disabled, to be held in Salt Lake City, Utah. The funds shall be available for grants for the costs of planning, delivery and temporary use of transit vehicles for special transportation needs and construction of temporary transportation facilities for the VIII Paralympiad for the Disabled.

III. Fiscal Year 2002 Focus Areas

A. Transit Safety and Security

Public transit agencies throughout the nation have stepped up security efforts following the terrorist events of September 2001. FTA has launched an FY 2002 effort to assist transit providers to address security issues and has refocused funding to specific security-related activities. Initially, FTA will deploy security assessment teams to the largest transit systems in the country. These assessment findings and best practices will enable the FTA to provide extended assistance to all transit agencies to evaluate and update their emergency response plans. FTA will provide technical and funding assistance to transit agencies for full-scale emergency response drills based on their updated response plans and vulnerability assessments. Free regional workshops will offer security and emergency response training to local transit employees.

FTA has identified $2 million of FY 2002 research funding to undertake security-related transit research under the auspices of the Transit Cooperative Research Program of the National Academy of Sciences.

Also, recipients of section 5307 formula funding are reminded that at least one percent of the amount a grantee receives each fiscal year must be expended on “mass transportation security projects” unless the grantee certifies, and the Secretary of Transportation accepts, that the expenditure for security projects is unnecessary. It is unlikely that FTA will waive this requirement.

Another potential source of funding for transit security enhancements is through the FHWA transfer of flexible formula funds, as provided in 23 U.S.C. 104, which, in conjunction with Title 23 U.S.C. 120, provides transit agencies a 100 percent Federal share for safety projects (subject to a nationwide 10 percent program limitation).

B. 2000 Census

The Census Bureau identifies and classifies urban and rural population and delineates urbanized areas after each decennial census. The FTA uses urbanized and rural designations and statistical data for a number of purposes, including the apportionment of funds for its formula based programs.

The Census Bureau had not completed the process of delineating urbanized and rural areas for the 2000 Census at the time FTA apportioned FY 2002 funds. Therefore, the 1990 Census data was used for the FY 2002 apportionments contained in this notice.

It is anticipated that a number of areas will change categories under the 2000 Census, as a result of growth in population and/or the application of new criteria that will be used to define/designate urbanized and rural areas. Once FTA receives the 2000 Census data, we will post, on the FTA Website, estimated FY 2003 apportionments for the formula programs.

For further information contact Ken Johnson, FTA Office of Resource Management and State Programs, at (202) 366-2053.

C. TEAM-Web

The Transportation Electronic Award Management system (TEAM) is FTA's electronic grant making and record keeping system. On October 1, 2001, FTA released TEAM-Web, a new Internet version of the TEAM system. TEAM-Web permits grantees to submit their grant information via the Internet and provides for continued and enhanced submission of grant information electronically.

TEAM-Web provides the recipients of financial assistance online access to the FTA information resources that support their mission critical operations, including real time access to detailed disbursements by project, balances in formula budget accounts, and the status of applications in the award process. The new system also has an email notification process that will ensure accountability when processing applications through the FTA Offices and the Department of Labor. All current user information has been migrated to the Web version of TEAM. FTA has conducted training sessions on how to navigate TEAM-Web in its Headquarters and Regional Offices. For information on future training sessions, contact the appropriate FTA Regional Office.

To access TEAM-Web, log onto the Internet at http://FTATEAMWeb.fta.dot.gov. For additional information, contact Glenn Bottoms, Chief, Transit Data and Support Division, (202) 366-1632.

D. New Starts Rule and Workshops

TEA-21 requires the FTA to issue regulations on the manner in which candidate projects for capital investment grants or loans for new fixed guideway systems and extensions to existing systems (New Starts) will be evaluated and rated. The Major Capital Investment Projects Final Rule (49 CFR Part 611), referred to as the New Starts Final Rule, was published in the Federal Register on December 7, 2000, and became effective on April 6, 2001.

Electronic access to this Final Rule and related documents is available through the FTA Web site (http://www.fta.dot.gov), under the New Starts section. Paper copies of this Final Rule and other documentation can be obtained by contacting FTA at one of our Regional Offices.

As in the previous fiscal year, FTA will conduct outreach sessions and workshops in FY 2002 to introduce the Final Rule and to continue longstanding outreach efforts on the New Starts program. Information on scheduled workshops can be obtained by contacting any FTA Regional Office, as well as the FTA Office of Planning and the FTA Office of Budget and Policy.

E. Intelligent Transportation Systems (ITS)

Section 5206(e) of TEA-21 requires that Intelligent Transportation Systems (ITS) projects using funds from the Highway Trust Fund (including the Mass Transit Account) conform to National ITS Architecture and Standards. The FTA National ITS Architecture Consistency Policy for Transit Projects implements the TEA-21 requirements and went into effect on April 8, 2001. The Policy is available on the FTA Web site, and guidance material is available on the Departmental ITS Web site at www.its.dot.gov. These standards and requirements apply to FY 2002 allocations included in this notice that contain ITS components. Using existing FTA oversight procedures, FTA has initiated a program to provide initial oversight and technical assistance with respect to National ITS Architecture Consistency requirements.

Questions regarding the applicability of these standards and requirements should be addressed to the FTA Regional Office or FTA Office of Research, Demonstration and Innovation, at (202) 366-4991.

F. Environmental Streamlining

TEA-21 directs DOT to expedite the environmental review process for proposed highway and transit projects. With this apportionments notice, FTA is introducing two measures concerning proposed major transit investments (New Starts) that will support timely delivery of projects, while maintaining and enhancing protection of the human and natural environment.

First, FTA is extending automatic pre-award authority to proposed New Starts projects for costs incurred to acquire real property and real property rights upon the completion of the National Environmental Policy Act (NEPA) review of the proposed project. NEPA review is complete when FTA signs an environmental Record of Decision (ROD) or Finding of No Significant Impact (FONSI) or makes a Categorical Exclusion (CE) determination. This measure will enable grant applicants to begin earlier to assist persons and businesses that will be displaced by the project in a manner consistent with commitments made as part of the NEPA review and in compliance with the Uniform Relocation Assistance and Real Property Acquisition Policies Act (URA). It will also help grant applicant to initiate the lengthy process of acquiring property earlier.

Second, FTA will extend automatic pre-award authority to proposed New Starts projects for costs incurred to carry out the NEPA review process and to prepare an Environmental Impact Statement (EIS), Environmental Assessment (EA), Categorical Exclusion (CE), or other environmental documents for that project upon the inclusion of that project in a federally approved State Transportation Improvement Program (STIP). FTA had previously given pre-award authority for use of formula funds. Now New Starts funds may serve as a funding source for these New Starts project NEPA activities. This measure will eliminate unnecessary delays in starting up the conceptual engineering, public involvement process, and interagency coordination for the project.

For additional information, contact Joseph Ossi, FTA Office of Planning, (202) 366-1613.

IV. Metropolitan Planning Program and State Planning and Research Program

A. Metropolitan Planning Program

Funding made available for the Metropolitan Planning Program (49 U.S.C. 5303) in the FY 2002 DOT Appropriations Act is $55,422,400, which is the guaranteed funding level under TEA-21. The FY 2002 Metropolitan Planning Program apportionment to States for MPOs' use in urbanized areas totals $55,662,971. This amount includes $55,422,400 in FY 2002 funds, and $240,571 in prior year deobligated funds available for reapportionment under this program. A basic allocation of 80 percent of this amount ($44,530,377) is distributed to the States based on the State's urbanized area population as defined by the U.S. Census Bureau for subsequent State distribution to each urbanized area, or parts thereof, within each State. A supplemental allocation of the remaining 20 percent ($11,132,594) is also provided to the States based on an FTA administrative formula to address planning needs in the larger, more complex urbanized areas. Table 2 contains the final State apportionments for the combined basic and supplemental allocations. Each State, in cooperation with the MPOs, must develop an allocation formula for the combined apportionment, which distributes these funds to MPOs representing urbanized areas, or parts thereof, within the State. This formula, which must be approved by the FTA, must ensure to the maximum extent practicable that no MPO is allocated less than the amount it received by administrative formula under the Metropolitan Planning Program in FY 1991 (minimum MPO allocation). Each State formula must include a provision for the minimum MPO allocation. Where the State and MPOs desire to use a new formula not previously approved by FTA, it must be submitted to the appropriate FTA Regional Office for prior approval.

By April 2002, the Census Bureau is expected to make available detailed results of the 2000 Census and designate new urbanized areas. When the Census Bureau issues its population data, FTA will request that States reaffirm these in-State formulas. A reaffirmation or new in-State formula should be submitted to the FTA Regional Office in time to receive approval before October 1, 2002. Currently, guaranteed and authorized funding levels for each State over the life of TEA-21 (fiscal years 1999-2003) based on the 1990 Census, are posted at http://www.fta.dot.gov/office/planning/gaf.htm. FTA will post revised fiscal year 2003 guaranteed and authorized funding levels based on the 2000 Census for each State at this same Web site address, when 2000 Census data becomes available. This information should be utilized by each State when reaffirming or revising in-State formulas.

B. State Planning and Research Program

Funding made available for the State Planning and Research Program (49 U.S.C. 5313(b)) in the FY 2002 DOT Appropriations Act is $11,577,600, the guaranteed funding level under TEA-21.

The FY 2002 apportionment for the State Planning and Research Program (SPRP) totals $11,698,648. This amount includes $11,577,600 in FY 2002 funds, and $121,048 in prior year deobligated funds, which have become available for reapportionment under this program. Final State apportionments for this program are also contained in Table 2. These funds may be used for a variety of purposes such as planning, technical studies and assistance, demonstrations, management training, and cooperative research. In addition, a State may authorize a portion of these funds to be used to supplement metropolitan planning funds allocated by the State to its urbanized areas, as the State deems appropriate.

C. Data Used for Metropolitan Planning and State Planning and Research Apportionments

Population data from the 1990 Census is used in calculating these apportionments. The Metropolitan Planning funding provided to urbanized areas in each State by administrative formula in FY 1991 was used as a “hold harmless” base in calculating funding to each State.

D. FHWA Metropolitan Planning Program

For informational purposes, the estimated FY 2002 apportionments for the FHWA Metropolitan Planning Program (PL) are contained in Table 3. Estimated apportionments for the FY 2002 FHWA State Planning and Research Program (SPRP) were not available at the time of publication of this notice.

E. Local Match Waiver for Specified Planning Activities

Job Access and Reverse Commute Planning. Federal, State and local welfare reform initiatives may require the development of new and innovative public and other transportation services to ensure that former welfare recipients have adequate mobility for reaching employment opportunities. In recognition of the key role that transportation plays in ensuring the success of welfare-to-work initiatives, FTA and FHWA permit the waiver of the local match requirement for job access and reverse commute planning activities undertaken with both FTA and FHWA Metropolitan Planning Program and State Planning and Research Program funds. FTA and FHWA will support requests for waivers when they are included in Metropolitan Unified Planning Work Programs and State Planning and Research Programs and meet all other appropriate requirements.

F. Planning Emphasis Areas for Fiscal Year 2002

The FTA and FHWA identify Planning Emphasis Areas (PEAs) annually to promote priority themes for consideration, as appropriate, in metropolitan and statewide transportation planning processes. To support this, FTA and FHWA will prepare an inventory of current practice, guidance and training in those areas. Opportunities for exchanging ideas and experiences on innovative practices in these topic areas also will be provided throughout the year. For FY 2002, five key planning themes have been identified: (1) Consideration of safety and security in the transportation planning process; (2) integration of planning and environmental processes; (3) consideration of management and operations within planning processes; (4) consultation with local officials; and (5) enhancing the technical capacity of planning processes.

1. Safety and Security in the Transportation Planning Process

TEA-21 emphasizes the safety and security of transportation systems as a national priority and calls for transportation projects and strategies that “increase the safety and security of transportation systems.” This entails integration of safety and facility security into all stages of the transportation planning process.

FTA and FHWA are working together to advance the state-of-practice in addressing safety and security in the metropolitan and statewide planning process through workshops and case studies. A report prepared by the Transportation Research Board (TRB), Transportation Research Circular E-C02, “Safety-Conscious Planning,” January 2001, describes the issues and recommendations identified at a Safety in Planning workshop held earlier. The report is available on the TRB Web site at www.nas.edu/trb. Also, the Institute of Transportation Engineers (ITE) has prepared a discussion paper on the topic, entitled “The Development of the Safer Network Transportation Planning Process,” which is posted to their Web site at [www.ite.org.]

2. Integrated Planning and Environmental Processes

TEA-21 mandates the elimination of the Major Investment Study as a stand-alone requirement, while integrating the concept within the planning and project development/environmental review processes. A training course entitled “Linking Planning and NEPA” is being developed and will be made available at the National Transit Institute Web site—[www.ntionline.com].

3. Consideration of Management and Operations Within Planning Processes

TEA-21 challenges FHWA and FTA to move beyond traditional capital programs for improving the movement of people and goods—focusing on the need to improve the way transportation systems are managed and operated. FTA and FHWA have convened a working group and have commissioned discussion papers on the topic. This information is available at http://plan2op.fhwa.dot.gov.

4. Consultation With Local Officials

Consultation with local officials is a vital yet sensitive issue within the transportation planning process. Within metropolitan areas, the MPO provides the venue and policy context for this. Outside of metropolitan areas, FHWA and FTA are working to facilitate the most effective consultation processes within each State. FTA and FHWA will continue to ensure effective consultation between States and local officials in non-metropolitan areas in reviewing statewide planning and, specifically, in making findings in support of FTA and FHWA STIP approvals.

5. Enhancing the Technical Capacity of Planning Processes

Reliable information on current and projected usage and performance of transportation systems is critical to the ability of planning processes to supply credible information to decision-makers to support preparation of plans and programs that respond to their localities' unique needs and policy issues. To ensure the reliability of usage and performance data, as well as the responsiveness of policy forecasting tools, an evaluation is needed of the quality of information provided by the technical tools, data sources, forecasting models, as well as the expertise of staff to ensure its adequacy to support decision-making. And if this support is found to be lacking, the responsible agencies within metropolitan and statewide planning processes are encouraged to devote appropriate resources to enhancing and maintaining their technical capacity.

The metropolitan and statewide transportation planning processes have become critical tools for responding to increasingly complex issues at the State and local levels. Many of these issues are encompassed in previously listed planning emphasis areas (e.g., integrated planning and environmental processes, management and operations, analytical tools and methods) and include much more. It is essential that FTA and FHWA provide technical assistance, training, and information to our customers to further enhance the skills and capabilities they utilize to conduct effective transportation planning processes. The FTA and FHWA have created the Metropolitan Capacity Building (MCB) Program, and the Statewide and Rural Capacity Building Programs as tools to disseminate and coordinate information, training, and foster a dialogue for the exchange of ideas. More information on the MCB program can be found at www.mcb.fhwa.dot.gov.

For further information on these PEAs, contact Ken Lord, FTA Metropolitan Planning Division, (202) 366-2836, or Shana Baker, FHWA Office of Metropolitan Planning and Programs, (202) 366-1862.

G. Federal Planning Certification Reviews

The Intermodal Surface Transportation Efficiency Act (ISTEA) initiated, and TEA-21 continued, the requirement for the FTA and FHWA to certify, at least every three years, that the planning processes conducted in the largest metropolitan areas were being carried out in compliance with applicable provisions of Federal law. This provision applies specifically to localities termed “Transportation Management Areas” (TMA), which are urbanized areas with populations of 200,000 and above, or other urbanized areas that may be designated by the Secretary of Transportation. TEA-21 further required that, in conducting these certification reviews, provisions be made for public involvement appropriate to the metropolitan area under review.

To that end, an annual calendar of prospective dates and locations for certification reviews of TMAs anticipated in FY 2002 has been prepared and is posted on the FTA Web site at http://www.fta.dot.gov/library/planning/cert2002.htm.

For further information regarding Federal certifications of the planning process, contact: for FTA, Charles Goodman, FTA Metropolitan Planning Division, (202) 366-1944, or Scott Biehl, FTA Office of Chief Counsel, (202) 366-4063; for FHWA, Sheldon Edner, FHWA Metropolitan Planning Division, (202) 366-4066, or Reid Alsop, FHWA Office of the Chief Counsel, (202) 366-1371.

H. Consolidated Planning Grants

Since FY 1997, FTA and FHWA have offered States the option of participating in a pilot Consolidated Planning Grant (CPG) program. Additional State participants are sought so that FTA and FHWA can benefit from the widest possible range of participant input to improve and further streamline the process.

With the fund transfer provisions of TEA-21, which were applied to the CPG beginning in FY 2000, all funds (more than 35 post-FY 1999 FHWA sources are eligible for transfer) can be accessed by indicating only whether the funds are for State or metropolitan planning. This streamlined fund drawdown process eliminates the need to monitor individual fund sources, if several have been used, and ensures that the oldest funds will always be used first.

Under the CPG, States can report metropolitan planning expenditures (to comply with the Single Audit Act) for both FTA and FHWA under the Catalogue of Federal Domestic Assistance number for FTA's Metropolitan Planning Program. Additionally, for States with an FHWA Metropolitan Planning (PL) fund-matching ratio greater than 80 percent, the State (through FTA) can request a waiver of the 20 percent local share requirement in order that all FTA funds used for metropolitan planning in a CPG can be granted at the higher FHWA rate. For some States, this Federal match rate can exceed 90 percent. Currently, three western States participating in the pilot (California, Idaho, and Wyoming) are using the FHWA PL match rate for FTA's Metropolitan Planning Program.

Pre-award authority has been granted to FTA's planning programs for the life of TEA-21. This pre-award authority enables States to continue planning program activities from year to year with the assurance that eligible costs can later be converted to a regularly funded Federal project without the need for prior approval or authorization from the granting agency. Beginning in FY 2000, the transfer procedures established to implement the transfer provision in TEA-21 (section 1103(i) “Transfer of Highway and Transit Funds”) is applicable to FHWA funds used in CPG. For planning projects funded through CPG, the State DOT requests the transfer of funds in a letter to the FHWA Division Office. The FHWA-funded planning activities must be in accordance with the State's or MPO's Planning Work Program. The letter must be signed by the appropriate State official or their designee and must specify the State and the amount of funding to be transferred for the CPG by apportionment category (e.g. STP, CMAQ, Donor State Bonus, Funding Restoration, etc.) and by appropriation year. The letter should include only the funding for planning activities contained in the State's or MPO's Planning Work Program. If no FTA program, either Metropolitan Planning (49 U.S.C. 5303) or Statewide Planning and Research (49 U.S.C. 5313(b)), is indicated for transfers to CPG, funds will be credited to the Metropolitan Planning Program.

As part of the pilot, FTA will continue to work with participating States to increase the flexibility and further streamline the consolidated approach to planning grants. For further information on participating in the CPG Pilot, contact Candace Noonan, Intermodal and Statewide Planning Division, FTA, at (202) 366-1648 or Anthony Solury, Office of Planning and Environment, FHWA, at (202) 366-5003.

I. New Starts Approval to Enter Preliminary Engineering and Final Design

TEA-21 extends FTA's long-standing authority for approving the advancement of candidate New Starts projects into preliminary engineering (PE) by requiring that FTA also approve entrance into the final design (FD) stage of project development. Specifically, 49 U.S.C. 5309(e)(6) requires that a proposed New Starts project may advance into preliminary engineering or final design only if FTA finds that the project meets the statutory criteria specified in § 5309(e), and that there is a reasonable likelihood that it will continue to do so. In making such findings, FTA evaluates and rates proposed New Starts projects as “highly recommended,” “recommended,” or “not recommended,” based on the results of alternatives analysis, the statutory criteria for project justification, and the degree of local financial commitment. FTA has established a set of decision rules for approving entrance into preliminary engineering and final design at 49 CFR part 611. After first meeting several basic planning, environmental, and project management requirements which demonstrate the “readiness” of the project to advance into the next stage of project development, candidate projects are subject to FTA evaluation against the New Starts project justification and local financial commitment criteria. Projects may advance to the next appropriate stage of project development (PE or FD) only if rated “recommended” or “highly recommended,” based on FTA's evaluation under the statutory criteria. Projects rated “not recommended” will not be approved to advance.

Section 5309(e)(8)(A) of Title 49 U.S.C. exempts projects which request a section 5309 New Starts share of less than $25 million from the requirements of section 5309(e). TEA-21 also provides statutory exemptions to certain specific projects. It is important to note that any exemption under section 5309(e)(8)(A) applies only to the statutory New Starts project evaluation criteria that serves as the basis for FTA's approval to advance to preliminary engineering and final design for such projects. Proposed New Starts projects seeking less than $25 million in funding from the § 5309 New Starts program must still request approval to enter the next stage of development, and must fulfill all appropriate planning, environmental, and project management requirements. Nonetheless, FTA encourages sponsors of projects they believe to be exempt to submit the full range of data to FTA for evaluation and rating. This will provide FTA with the means necessary to make funding recommendations for such projects to Congress, and will protect project sponsors in the event that further project development activities reveal the need for additional § 5309 New Starts funding beyond $25 million.

V. Urbanized Area Formula Program

A. Total Urbanized Area Formula Apportionments

The amount made available to the Urbanized Area Formula Program (49 U.S.C. 5307) in the FY 2002 DOT Appropriations Act is $3,216,040,006. In addition, $7,092,285 in deobligated funds became available for reapportionment under the Urbanized Area Formula Program as provided by 49 U.S.C. 5336(i).

After reserving $16,080,200 for oversight, the amount of FY 2002 funds available for apportionment is $3,199,959,806. The funds to be reapportioned, described in the previous paragraph, are then added and increase the total amount apportioned for this program to $3,207,052,091. Table 4 displays the amounts apportioned under the Urbanized Area Formula Program. Table 13 contains the apportionment formula for the Urbanized Area Formula Program.

An additional $4,849,950 is made available for the Alaska Railroad for improvements to its passenger operations. After reserving $24,250 for oversight, $4,825,700 is available for the Alaska Railroad.

B. Fiscal Year 2001 Apportionment Adjustments

Adjustments were made to the apportionment of two urbanized areas because of corrections to data used to compute the FY 2001 Urbanized Area Formula Program apportionments, published in the Federal Register of January 18, 2001 (66 FR 4918). The differences between the previously published apportionment and the corrected apportionment for these areas have been resolved and the necessary adjustment made to the areas' apportionment for FY 2002. The amounts published in this notice contain the adjustments and the affected urbanized areas have been advised.

C. Data Used for Urbanized Area Formula Apportionments

Data from the 2000 National Transit Database (NTD) Report Year (49 U.S.C. 5335) submitted in late 2000 and early 2001 were used to calculate the FY 2002 Urbanized Area Formula apportionments for urbanized areas 200,000 in population and over. Population and population density data are also used in calculating apportionments under the Urbanized Area Formula Program.

D. Urbanized Area Formula Apportionments to Governors

The total Urbanized Area Formula apportionment to the Governor for use in areas under 200,000 in population for each State is shown in Table 4. This table also contains the total apportionment amount attributable to each urbanized area within the State. The Governor may determine the allocation of funds among the urbanized areas under 200,000 in population with one exception. As further discussed in Section G below, funds attributed to an urbanized area under 200,000 in population, located within the planning boundaries of a transportation management area, must be obligated in that area.

E. Transit Enhancements

One percent of the Urbanized Area Formula Program apportionment in each urbanized area with a population of 200,000 and over must be made available only for transit enhancements. Table 4 shows the amount set aside for enhancements in these areas.

The term “transit enhancement” includes projects or project elements that are designed to enhance mass transportation service or use and are physically or functionally related to transit facilities. Eligible enhancements include the following: (1) Historic preservation, rehabilitation, and operation of historic mass transportation buildings, structures, and facilities (including historic bus and railroad facilities); (2) bus shelters; (3) landscaping and other scenic beautification, including tables, benches, trash receptacles, and street lights; (4) public art; (5) pedestrian access and walkways; (6) bicycle access, including bicycle storage facilities and installing equipment for transporting bicycles on mass transportation vehicles; (7) transit connections to parks within the recipient's transit service area; (8) signage; and (9) enhanced access for persons with disabilities to mass transportation.

It is the responsibility of the MPO to determine how the one percent will be allotted to transit projects. The one percent minimum requirement does not preclude more than one percent being expended in an urbanized area for transit enhancements. Items that are only eligible as enhancements—in particular, operating costs for historic facilities—may be assisted only within the one percent funding level.

The recipient must submit a report to the appropriate FTA Regional Office listing the projects or elements of projects carried out with those funds during the previous fiscal year and the amount awarded. The report must be submitted with the Federal fiscal year's final quarterly progress report in TEAM-Web. The report should include the following elements: (a) Grantee name, (b) urbanized area name and number, (c) FTA project number, (d) transit enhancement category, (e) brief description of enhancement and progress towards project implementation, (f) activity line item code from the approved budget, and (g) amount awarded by FTA for the enhancement.

F. Fiscal Year 2002 Operating Assistance

FY 2002 funding for operating assistance is available only to urbanized areas with populations under 200,000. For these areas, there is no limitation on the amount of the State apportionment that may be used for operating assistance, and the Federal/local share ratio is 50/50.

TEA-21 provides two exceptions to the restriction on operating assistance in areas over 200,000 in population. These exceptions have been addressed and eligible areas previously notified.

G. Designated Transportation Management Areas

All urbanized areas over 200,000 in population have been designated as Transportation Management Areas (TMAs), in accordance with 49 U.S.C. 5305. These designations were formally made in a Federal Register Notice dated May 18, 1992 (57 FR 21160). Additional areas have been designated as TMAs upon the request of the Governor and the MPO designated for such area or the affected local officials. During FY 2001, no additions to existing TMAs were designated.

Guidance for setting the boundaries of TMAs is contained in the joint transportation planning regulations codified at 23 CFR part 450 and 49 CFR part 613. In some cases, the TMA boundaries, which have been established by the MPO for the designated TMA, also include one or more urbanized areas with less than 200,000 in population. Where this situation exists, the discretion of the Governor to allocate Urbanized Area Formula program “Governor's Apportionment” funds for urbanized areas with less than 200,000 in population is restricted, i.e., the Governor only has discretion to allocate Governor's Apportionment funds attributable to areas that are outside of designated TMA boundaries.

If any additional small urbanized areas—within the boundaries of a TMA—are identified, notification should be made in writing to the Associate Administrator for Program Management, Federal Transit Administration, 400 Seventh Street, SW., Washington, DC 20590, no later than July 1 of each fiscal year. FTA's most recent list of urbanized areas with population less than 200,000 that are included within the planning boundaries of designated TMAs, is contained in the “FTA Fiscal Year 2001 Apportionment, Allocations and Program Information; Notice” which, can be found on the FTA Web site.

H. Urbanized Area Formula Funds Used for Highway Purposes

Urbanized Area Formula funds apportioned to a TMA can be transferred to FHWA and made available for highway projects if the following three conditions are met: (1) Such use must be approved by the MPO in writing after appropriate notice and opportunity for comment and appeal are provided to affected transit providers; (2) in the determination of the Secretary, such funds are not needed for investments required by the Americans with Disabilities Act of 1990 (ADA); and (3) the MPO determines that local transit needs are being addressed.

Urbanized Area Formula funds that are designated for highway projects will be transferred to and administered by FHWA. The MPO should notify FTA of its intent to use FTA funds for highway purposes, as prescribed in section VIII.A., below.

I. National Transit Database (NTD) Internet Reporting and Redesign Effort

The NTD is the FTA database for nation-wide statistics on the transit industry, including safety data. Prior to FY 2001, FTA reporters utilized diskettes to submit statistics on their operating, financial and safety activities to FTA. Last year, reporters had the option of using the diskette system or the FTA new Internet reporting system. Beginning with FY 2002, all reports will need to be submitted via the Internet. Diskettes will no longer be accepted. The FTA NTD reporting seminars, held six times annually across the country, have concentrated on the Internet reporting system. The changeover to Internet reporting has received favorable comments and has resulted in accelerated data collection and validation.

NTD statistics are utilized, in part, to apportion Urbanized Area Formula Program funds for areas over 200,000 in population. In addition, NTD data is summarized and used to report to Congress on the performance of the transit industry and associated costs. These data are used to assist in assessing whether annual FTA Strategic Plan goals are achieved.

The overall effort to modernize and redesign the NTD—as detailed in the FTA May 31, 2001 report to Congress entitled “Review of the National Transit Database”—continues and is now in the programming phase. Plans call for reporting via the new NTD in the Fall of 2002 with training for NTD reporters to begin in the winter of 2001. The monthly/quarterly reporting of summary safety, security, and extent of service data, as well as immediate reporting of major safety and security incidents, will be implemented in calendar year 2002. This reporting has been structured to exempt smaller transit properties (under 100 vehicles in maximum service) from the monthly reporting requirement. An increased number of NTD seminars are scheduled to assist transit properties in reporting. See the NTD Web site for further information at www.ntdprogram.com.

VI. Nonurbanized Area Formula Program and Rural Transit Assistance Program (RTAP)

A. Nonurbanized Area Formula Program

The amount made available for the Nonurbanized Area Formula Program (49 U.S.C. 5311) in the FY 2002 DOT Appropriations Act is $224,555,243. The FY 2002 Nonurbanized Area Formula apportionments to the States total $226,410,089 and are displayed in Table 5. Of the $224,555,243 available, $1,122,776 was reserved for oversight. The funds apportioned include $2,977,622 in deobligated funds from fiscal years prior to FY 2002.

The Nonurbanized Area Formula Program provides capital, operating and administrative assistance for areas under 50,000 in population. Each State must spend no less than 15 percent of its FY 2002 Nonurbanized Area Formula apportionment for the development and support of intercity bus transportation, unless the Governor certifies to the Secretary that the intercity bus service needs of the State are being adequately met.

B. Rural Transit Assistance Program (RTAP)

Funding made available for the RTAP (49 U.S.C. 5311(b)(2)) in the 2002 DOT Appropriations Act was $5,250,000, the guaranteed funding level under TEA-21. The FY 2002 RTAP allocations to the States total $5,270,729 and are also displayed in Table 5. This amount includes $5,250,000 in FY 2002 funds, and $20,729 in prior year deobligated funds, which are available for reapportionment.

The funds are allocated to the States to undertake research, training, technical assistance, and other support services to meet the needs of transit operators in nonurbanized areas. These funds are to be used in conjunction with the States' administration of the Nonurbanized Area Formula Program.

FTA also supports RTAP activities at the national level within the National Planning and Research Program (NPRP). The National RTAP projects support the States in their use of the formula allocations for training and technical assistance. Congress did not designate any funds for the National RTAP among the NPRP allocations in the Conference Report accompanying the FY 2002 DOT Appropriations Act. FTA will, however, include the National RTAP among priority projects to be funded from available NPRP funds. During FY 2002, FTA will conduct a competitive selection to choose providers of the National RTAP services for the next five years.

VII. Elderly and Persons with Disabilities Program

Funds in the amount of $84,604,801 are made available for the Elderly and Persons with Disabilities Program (49 U.S.C. 5310) in the FY 2002 DOT Appropriations Act. A total of $84,930,249 is apportioned to the States for FY 2002 for the Elderly and Persons with Disabilities Program. In addition to the FY 2002 funding of $84,604,801, the FY 2002 apportionment includes $325,448 in prior year unobligated funds, which are available for reapportionment under the Elderly and Persons with Disabilities Program. Table 6 shows each State's apportionment.

The formula for apportioning these funds uses Census population data for persons aged 65 and over and for persons with disabilities. The funds provide capital assistance for transportation for elderly persons and persons with disabilities. Eligible capital expenses may include, at the option of the recipient, the acquisition of transportation services by a contract, lease, or other arrangement.

While the assistance is intended primarily for private non-profit organizations, public bodies that coordinate services for the elderly and persons with disabilities, or any public body that certifies to the State that there are no non-profit organizations in the area that are readily available to carry out the service, may receive these funds.

These funds may be transferred by the Governor to supplement Urbanized Area Formula or Nonurbanized Area Formula capital funds during the last 90 days of the fiscal year.

VIII. FHWA Surface Transportation Program and Congestion Mitigation and Air Quality Funds Used for Transit Purposes (Title 23, U.S.C. 104)

A. Transfer Process

The process for transferring flexible formula funds between FTA and FHWA programs is described below. Information on the transfer of FHWA funds to FTA planning programs can be found in section IV.H., above.

Transfer From FHWA to FTA

FHWA funds designated for use in transit capital projects must result from the metropolitan and statewide planning and programming process, and must be included in an approved Statewide Transportation Improvement Program (STIP) before the funds can be transferred. The State DOT requests, by letter, the transfer of highway funds for a transit project to the FHWA Division Office. The letter should specify the project, amount to be transferred, apportionment year, State, Federal aid apportionment category (i.e., Surface Transportation Program (STP), Congestion Mitigation and Air Quality (CMAQ), Interstate Substitute, or congressional earmark), and a description of the project as contained in the STIP.

The FHWA Division Office confirms that the apportionment amount is available for transfer and concurs in the transfer by letter to the State DOT and FTA. The FHWA Office of Budget and Finance then transfers obligation authority and an equal amount of cash to FTA. All CMAQ, STP, and FHWA funds allocated to transit projects in the Appropriations Act or Conference Report will be transferred to one of the three FTA formula capital programs (i.e. Urbanized Area Formula (section 5307), Nonurbanized Area Formula (section 5311) or Elderly and Persons with Disabilities (section 5310).

The FTA grantee's application for the project must specify which capital program the funds will be used for and the application should be prepared in accordance with the requirements and procedures governing that program. Upon review and approval of the grantee's application, FTA obligates funds for the project.

The transferred funds are treated as FTA formula funds, but are assigned a distinct identifying code for tracking purposes. The funds may be used for any purpose eligible under the FTA formula capital program to which they are transferred. FTA and FHWA have issued guidance on project eligibility under the CMAQ program in a Federal Register notice dated February 23, 2000 (65 FR 9040). All FTA requirements are applicable to transferred funds except local share—FHWA local share requirements apply. Transferred funds should be combined with regular FTA funds in a single annual grant application.

Transfers From FTA to FHWA

The Metropolitan Planning Organization (MPO) submits a request to the FTA Regional Office for a transfer of FTA section 5307 formula funds (apportioned to an urbanized area 200,000 and over in population) to FHWA based on approved use of the funds for highway purposes, as contained in the Governor's approved State Transportation Improvement Program. The MPO must certify that: (1) The funds are not needed for capital investments required by the Americans with Disabilities Act; (2) notice and opportunity for comment and appeal has been provided to affected transit providers; and (3) local funds used for non-Federal match are eligible to provide assistance for either highway or transit projects. The FTA Regional Administrator reviews and concurs in the request, then forwards the approval to FTA Headquarters, where a reduction is made to the grantee's formula apportionment and FTA's National Operating Budget in TEAM-Web, equal to the dollar amount being transferred to FHWA.

For information regarding these procedures, please contact Kristen D. Clarke, FTA Budget Division, at (202) 366-1699; or Richard Meehleib, FHWA Finance Division, at (202) 366-2869.

B. Matching Share for FHWA Transfers

The provisions of Title 23 U.S.C., regarding the non-Federal share apply to Title 23 funds used for transit projects. Thus, FHWA funds transferred to FTA retain the same matching share that the funds would have if used for highway purposes and administered by FHWA.

There are three instances in which a Federal share higher than 80 percent would be permitted. First, in States with large areas of Indian and certain public domain lands and national forests, parks and monuments, the local share for highway projects is determined by a sliding scale rate, calculated based on the percentage of public lands within that State. This sliding scale, which permits a greater Federal share, but not to exceed 95 percent, is applicable to transfers used to fund transit projects in these public land States. FHWA develops the sliding scale matching ratios for the increased Federal share.

Secondly, commuter carpooling and vanpooling projects and transit safety projects using FHWA transfers administered by FTA may retain the same 100 percent Federal share that would be allowed for ride-sharing or safety projects administered by the FHWA.

The third instance includes the 100 percent Federal safety projects; however, these are subject to a nationwide 10 percent program limitation.

IX. Capital Investment Program (49 U.S.C. 5309)

A. Fixed Guideway Modernization

The formula for allocating the Fixed Guideway Modernization funds contains seven tiers. The apportionment of funding under the first four tiers, through FY 2003, is based on data used to apportion the funding in FY 1997. Funding under the last three tiers is apportioned based on the latest available route miles and revenue vehicle miles on segments at least seven years old, as reported to the NTD.

Table 7 displays the FY 2002 Fixed Guideway Modernization apportionments. Fixed Guideway Modernization funds apportioned for this section must be used for capital projects to maintain, modernize, or improve fixed guideway systems.

All urbanized areas with fixed guideway systems that are at least seven years old are eligible to receive Fixed Guideway Modernization funds. A request for the start-up service dates for fixed guideways has been incorporated into the NTD reporting system to ensure that all eligible fixed guideway data is included in the calculation of the apportionments. A threshold level of more than one mile of fixed guideway is required to receive Fixed Guideway Modernization funds. Therefore, urbanized areas reporting one mile or less of fixed guideway mileage under the NTD are not included.

For FY 2002, $1,136,400,000 is made available for Fixed Guideway Modernization in the FY 2002 DOT Appropriations Act, which is the guaranteed funding level in TEA-21. An amount of $11,364,000 was then deducted for oversight, and $7,047,502 was set aside for the Alaska Railroad as directed by language in Section 1124 of the FY 2001 Omnibus Consolidated Appropriations Act (Pub. L. 106-554), leaving $1,117,988,498 available for apportionment to eligible urbanized areas. In addition to the FY 2002 funding, $547,205 in deobligated funds from fiscal years prior to FY 2002 is added and increases the total amount apportioned to $1,118,535,703 under Fixed Guideway Modernization. Table 14 contains information regarding the Fixed Guideway Modernization apportionment formula.

The Alaska Railroad has been determined to be eligible for funding under the Fixed Guideway Modernization program for service provided in the Anchorage, AK, urbanized area. The FY 2002 Fixed Guideway Modernization apportionment for the Alaska Railroad is, in part, based on a calculated amount derived from application of the Fixed Guideway Modernization formula—using approved Alaska Railroad data for fixed guideway directional route miles located within the Anchorage, AK, urbanized area. In addition, the Alaska Railroad apportionment includes the $7,047,502 set aside for the Alaska Railroad as directed in Public Law 106-554.

The Alaska Railroad eligibility to receive funds under the Fixed Guideway Modernization program is pursuant to FTA's determination that: (1) it is the fixed guideway system for the Anchorage, AK urbanized area (which is an urbanized area eligible for assistance under section 5336(b)(2)(A) of 49 U.S.C. Chapter 53, and therefore eligible for funding under sections 5337(a)(5)(B), 5337(a)(6)(B), and 5337(a)(7)(B)); and (2) the Alaska Railroad meets the standard of having been in service for at least seven years.

The Alaska Railroad was built by the Federal Government between 1914 and 1923. The Railroad operated under the control of the Interior Department until April 1967 when the Department of Transportation assumed that responsibility. After passage of special Federal legislation, the assets of the Alaska Railroad were sold to the State of Alaska, which assumed ownership of the railroad in January 1985. Since Federal ownership of the Alaska Railroad has extended over the greater part of its existence, the DOT acknowledges a special stewardship towards the Alaska Railroad within the Anchorage urbanized area. For purposes of formula apportionments beginning in FY 2004 and beyond, FTA will create a mode code exclusively for reporting to the NTD by the Alaska Railroad in the NTD Reporting Manual for report year 2002.

B. New Starts

The amount made available for New Starts in the FY 2002 DOT Appropriations Act is $1,136,400,000, which was fully allocated and represents the guaranteed funding level under TEA-21. Of this amount, $11,364,000 is reserved for oversight activities, leaving $1,125,036,000 available for allocations to projects. Prior year unobligated funds specified by Congress to be reallocated in the amount of $1,488,840 are then added and increase the total amount allocated to $1,126,524,840. The reallocated funds are derived from unobligated and deobligated balances for the following projects: Hartford-Old Saybrook, CT, project, $496,280; New London-Waterfront, CT, access project, $496,280; and North Front Range, CO, corridor feasibility study, $496,280. The final allocation for each New Starts project is listed in Table 8.

Prior year unobligated allocations for New Starts in the amount of $543,136,665 remain available for obligation in FY 2002. This amount includes $531,342,762 in fiscal years 2000 and 2001 unobligated allocations, and $11,793,903 for fiscal years 1998 and 1999 unobligated allocations that are extended in the FY 2002 Conference Report. These unobligated amounts are displayed in Table 8A.

Capital Investment Program funds for New Starts projects identified as having been extended in the FY 2002 Conference Report accompanying the FY 2002 DOT Appropriations Act, will lapse September 30, 2002. A list of the extended projects and the amount that remains unobligated as of September 30, 2001, is appended to Table 8A for ready reference.

C. Bus

The FY 2002 DOT Appropriations Act provides $568,200,000, for the purchase of buses, bus-related equipment and paratransit vehicles, and for the construction of bus-related facilities. This amount represents the guaranteed funding level under TEA-21.

TEA-21 established a $100 million Clean Fuels Formula Program under 49 U.S.C. 5308 (described in section XII below). The program is authorized to be funded with $50 million from the Bus category of the Capital Investment Program and $50 million from the Formula Program. However, the FY 2002 DOT Appropriations Act directs FTA to transfer the formula portion to, and merge it with, funding provided for the Bus category of the Capital Investment Program. Thus, $618,200,000 appropriated in FY 2002 is available for funding the Bus category of the Capital Investment Program. In addition, Congress directed that funds made available for bus and bus facilities be supplemented with $1,733,658 from projects included in previous Appropriations Acts, which increases the total amount made available to $619,933,658. The supplemental funds are derived from unobligated balances for the following projects: Carroll County, NH transportation alliance buses, $198,500; New Hampshire statewide buses, $34,001; Gary, IN transit consortium buses, $310,157; Jefferson Parish, LA bus and bus facilities, $347,375; Louisiana state infrastructure bank, bus and bus facilities, $347,375; and North Slope borough, AK, $496,250.

After deducting $6,182,000 for oversight, the amount available for allocation under the Bus category is $613,751,658. Table 9 displays the allocation of the FY 2002 Bus funds by State and project. The FY 2002 Conference Report accompanying the FY 2002 DOT Appropriations Act allocated all of the FY 2002 Bus funds to specified States or localities for bus and bus-related projects. FTA will honor those allocations to the extent that they comply with the statutory authorization for that program.

Prior year unobligated balances for Bus Program allocations in the amount of $494,182,292 remain available for obligation in FY 2002. This includes $477,559,360 in fiscal years 2000 and 2001 unobligated allocations, and $16,622,932 for fiscal years 1998 and 1999 unobligated allocations that are extended in the FY 2002 Conference Report or the FY 2001 Supplemental Appropriations Act Conference Report. These unobligated amounts are displayed in Table 9A.

Capital Investment Program funds for Bus projects identified as having been extended in the Conference Report accompanying the FY 2002 DOT Appropriations Act or the FY 2001 Supplemental Appropriations Act, will lapse September 30, 2002. A list of the extended projects and the amount that remains unobligated as of September 30, 2001, is appended to Table 9A for ready reference.

In addition, the FY 2002 Conference Report provides clarification for FY 2001 projects and permits the use of FY 2001 appropriations for additional work as follows:

(1) Funds appropriated for the Lowell, Massachusetts transit hub can be used for the Hale Street bus maintenance and operations center;

(2) Funds appropriated for the Municipal Transit Operators in California can be used for bus and bus facilities;

(3) Funds appropriated for the King County Metro Eastgate park and ride can be used for the Issaquah Highlands park and ride;

(4) Funds allocated for buses for Suburban Mobility Authority for Regional Transportation (SMART) in Southeast Michigan may also be available for bus facilities; and

(5) Funds appropriated to the Burlington, Vermont multi-modal transit project in fiscal years 1998, 1999, 2000, and 2001 will be available for construction of the multimodal project and other transit improvements.

X. Job Access and Reverse Commute Program

The FY 2002 DOT Appropriations Act provides $125 million for the Job Access and Reverse Commute (JARC) Program, which is the guaranteed funding level under TEA-21. In the FY 2002 Conference Report the appropriators indicated their desire that $109,339,000 of this amount be awarded to certain specified States and localities. These areas and the corresponding amounts are listed in Table 10. States and localities listed in the FY 2002 Conference Report, along with other States and localities not so listed, are invited to apply for JARC funding according to the procedures that will be published in a separate Federal Register notice. That notice will solicit applications for the $125 million available in FY 2002 and the $150 million that is the guaranteed level of funding for FY 2003.

Because recipients of JARC funds have expressed the need for multi-year funding through the early stages of implementation, FTA will no longer limit awards to a single year, but rather will consider multi-year funding in appropriate cases. To give effect to this new policy, FTA will give priority to funding continuation of previously selected projects. FTA will solicit applications for continued funding from those applicants previously funded under the JARC program. Grantees may apply for up to two additional years of continuation funding beyond that previously approved. Continuation does not include expansion of services beyond those previously funded. Expanded services will be treated as new projects. Continuation projects are expected to document their progress through their most recent progress report. Evaluation of JARC projects' progress will be a key element in determining continued FTA financial support.

FTA will solicit applications for new JARC projects both from existing recipients and from States, localities and nonprofit organizations that have not previously been awarded JARC funds. Because FY 2003 is the last year of the TEA-21 authorization of the JARC program, applicants for new projects will be encouraged to apply for a level of funding that would allow them to sustain service for at least two years.

Applicants identified in the FY 2002 Conference Report must participate in this application process along with all other applicants. FTA will evaluate and rank all projects submitted in response to this new solicitation. Because it is expected that FY 2002 funds will be used primarily, if not entirely, for continuation projects, it is expected that new projects will not be funded until FY 2003 funds become available.

The JARC program, established under TEA-21, provides funding for the provision of transportation services designed to increase access to jobs and employment-related activities. Job Access projects are those that transport welfare recipients and low-income individuals, including economically disadvantaged persons with disabilities, in urban, suburban, or rural areas to and from jobs and activities related to their employment. Reverse Commute projects provide transportation services for the general public from urban, suburban, and rural areas to suburban employment opportunities. A total of up to $10,000,000 from the appropriation can be used for Reverse Commute Projects.

One of the goals of the JARC program is to increase collaboration among transportation providers, human service agencies, employers, metropolitan planning organizations, States, and affected communities and individuals. All projects funded under this program must be derived from an area-wide Job Access and Reverse Commute Transportation Plan, developed through a regional approach which supports the implementation of a variety of transportation services designed to connect welfare recipients to jobs and related activities. A key element of the program is making the most efficient use of existing public, nonprofit and private transportation service providers.

XI. Over-the-Road Bus Accessibility Program

The amount made available for the Over-the-Road Bus Accessibility (OTRB) Program in the FY 2002 DOT Appropriations Act is $6,950,000, which is the guaranteed funding level under TEA-21. Of this amount, $5,250,000 is available to providers of intercity fixed-route service, and $1,700,000 is available to other providers of over-the-road bus services, including local fixed-route service, commuter service, and charter and tour service.

The OTRB program authorizes FTA to make grants to operators of over-the-road buses to help finance the incremental capital and training costs of complying with the DOT over-the-road bus accessibility final rule, published on September 28, 1998 (63 FR 51670). Funds will be provided at 90 percent Federal share. FTA conducts a national solicitation of applications and grantees are selected on a competitive basis.

In FY 2001, a total of $3 million was available to intercity fixed-route providers and $1.7 million was available to all other providers. FTA selected 61 applicants from among the 84 applications submitted for funding incremental capital and training costs of complying with DOT's OTRB Accessibility requirements.

A separate Federal Register Notice providing program guidance and application procedures for FY 2002 will be issued.

XII. Clean Fuels Formula Program

TEA-21 established the Clean Fuels Formula Grant Program under section 5308 of Title 49 U.S.C., to assist non-attainment and maintenance areas in achieving or maintaining attainment status and to support markets for emerging clean fuel technologies. Under the program, public transit agencies in maintenance and non-attainment areas (as defined by the EPA) are to apply for formula funds to acquire clean fuel vehicles. The legislation specified the program to be funded with $50 million from the bus category of the Capital Investment Program, and $50 million from the Urbanized Area Formula Program in each fiscal year of TEA-21. However, congressional appropriation actions in this fiscal year as well as in fiscal years 1999, 2000, and 2001 have provided no funds for this program.

A Notice of Proposed Rulemaking was published in the Federal Register on August 28, 2001 (66 FR 45561). The proposed rule establishes the procedures potential recipients must use to apply for this program. Comments on the proposed rule were due October 12, 2001. Responses to those comments and preparation of the final rule are in progress.

For further information contact Nancy Grubb, FTA Office of Resource Management and State Programs, at (202) 366-2053.

XIII. National Planning and Research Program

The amount made available to the National Planning and Research Program in the FY 2002 DOT Appropriations Act is $31,500,000, of which Congress allocated $15,500,000 for specific activities. These allocations are listed in Table 11.

The program's core effort is the deployment of technological innovation to improve personal mobility, enhance the safety and security of transit operations, minimize fuel consumption and air pollution, increase ridership and enhance the quality of life of all communities. Emphasis is placed on mainstreaming proven cost-effective technological innovation through the FTA planning and capital assistance programs. Primary target areas are security technologies to protect against weapons of mass destruction, safety systems for railroad grade crossing protection and shared-track operations, cost reduction in advances in bus technology, and bus rapid transit.

FTA is directing resources for research, development, demonstration and deployment activities associated with technology and other innovations in four priority areas:

• Safety and security systems—to improve driver operations, minimize pedestrian conflicts, reduce terrorist threats and to facilitate shared track operations;

• Transit buses—to reduce operating and maintenance costs through improved energy management; to introduce rapid bus operations; to foster trade opportunities; to deploy low emission vehicles; and to leverage the $600 million or more invested annually through the FTA Bus capital assistance program;

• Infrastructure—to support the $4.9 billion annual FTA capital investment; to protect the integrity of federally supported assets; and to facilitate the deployment of lower cost systems options for expanding capacity; and

• Knowledge Management—to expand U.S. transit industry professional capacity and participation in global markets.

For additional information contact Henry Nejako, Program Management Officer, Office of Research, Demonstration and Innovation, at (202) 366-3765.

XIV. Unit Values of Data for Urbanized Area Formula Program, Nonurbanized Area Formula Program, and Fixed Guideway Modernization

The dollar unit values of data derived from the computations of the Urbanized Area Formula Program, the Nonurbanized Area Formula Program, and the Capital Investment Program—Fixed Guideway Modernization apportionments are displayed in Table 15 of this notice. To replicate an area's apportionment amount multiply its population, population density, and data from the NTD by the appropriate unit value.

XV. Period of Availability of Funds

The funds apportioned under the Metropolitan Planning Program and the Statewide Planning and Research Program, the Urbanized Area Formula Program, and Fixed Guideway Modernization, in this notice, will remain available to be obligated by FTA to recipients for three fiscal years following FY 2002. Any of these apportioned funds unobligated at the close of business on September 30, 2005, will revert to FTA for reapportionment under the respective program.

Funds apportioned to nonurbanized areas under the Nonurbanized Area Formula Program, including RTAP funds, will remain available for two fiscal years following FY 2002. Any such funds remaining unobligated at the close of business on September 30, 2004, will revert to FTA for reapportionment among the States under the Nonurbanized Area Formula Program. Funds allocated to States under the Elderly and Persons with Disabilities Program in this notice must be obligated by September 30, 2002. Any such funds remaining unobligated as of this date will revert to FTA for reapportionment among the States under the Elderly and Persons with Disabilities Program. The FY 2002 DOT Appropriations Act includes a provision requiring that FY 2002 New Starts and Bus funds not obligated for their original purpose as of September 30, 2004, shall be made available for other projects under 49 U.S.C. 5309.

JARC funds for projects selected by FTA for funding in FY 2002 will remain available for two fiscal years following FY 2002. Any such funds remaining unobligated at the close of business on September 30, 2004, will revert to FTA for reallocation under the JARC program.

Capital Investment Program funds for New Starts and Bus projects identified as having been extended in the FY 2002 Conference Report accompanying the FY 2002 DOT Appropriations Act will lapse September 30, 2002.

XVI. Automatic Pre-Award Authority to Incur Project Costs

A. Policy

FTA provides blanket or automatic pre-award authority to cover certain program areas described below. This pre-award authority allows grantees to incur project costs prior to grant approval and retain their eligibility for subsequent reimbursement after grant approval. The grantee assumes all risk and is responsible for ensuring that all conditions, which are described below, are met to retain eligibility. This automatic pre-award spending authority permits a grantee to incur costs on an eligible transit capital or planning project without prejudice to possible future Federal participation in the cost of the project or projects. Prior to exercising pre-award authority, grantees must comply with the conditions and Federal requirements outlined in paragraphs B and C immediately below. Failure to do so will render an otherwise eligible project ineligible for FTA financial assistance. In addition, grantees are strongly encouraged to consult with the appropriate FTA regional office if there is any question regarding the eligibility of the project for future FTA funds or the applicability of the conditions and Federal requirements.

Pre-award authority was extended in the June 24, 1998 Federal Register Notice on TEA-21 to all formula funds and flexible funds that will be apportioned during the authorization period of TEA-21, 1998-2003. Pre-award authority also applies to Capital Investment Bus allocations identified in this notice. For such section 5309 Capital Investment Bus projects, the date that costs may be incurred is the date that the appropriation bill in which they are contained is enacted. Pre-award authority does not apply to Capital New Start funds, or to Capital Investment Bus projects not specified in this or previous notices, except as described in D below.

B. Conditions

Similar to the FTA Letter of No Prejudice (LONP) authority, the conditions under which this authority may be utilized are specified below:

(1) The pre-award authority is not a legal or moral commitment that the project(s) will be approved for FTA assistance or that FTA will obligate Federal funds. Furthermore, it is not a legal or moral commitment that all items undertaken by the applicant will be eligible for inclusion in the project(s).

(2) All FTA statutory, procedural, and contractual requirements must be met.

(3) No action will be taken by the grantee that prejudices the legal and administrative findings that the Federal Transit Administrator must make in order to approve a project.

(4) Local funds expended by the grantee pursuant to and after the date of the pre-award authority will be eligible for credit toward local match or reimbursement if FTA later makes a grant for the project(s) or project amendment(s).

(5) The Federal amount of any future FTA assistance awarded to the grantee for the project will be determined on the basis of the overall scope of activities and the prevailing statutory provisions with respect to the Federal/local match ratio at the time the funds are obligated.

(6) For funds to which the pre-award authority applies, the authority expires with the lapsing of the fiscal year funds.

(7) The Financial Status Report, in TEAM-Web, must indicate the use of pre-award authority.

C. Environmental, Planning, and Other Federal Requirements

FTA emphasizes that all of the Federal grant requirements must be met for the project to remain eligible for Federal funding. Compliance with NEPA and other environmental laws or executive orders (e.g., protection of parklands, wetlands, historic properties) must be completed before State or local funds are spent on implementing activities such as final design, construction, and acquisition for a project that is expected to be subsequently funded with FTA funds. Depending on which class the project is included under in FTA environmental regulations (23 CFR part 771), the grantee may not advance the project beyond planning and preliminary engineering before FTA has issued either a categorical exclusion (refer to 23 CFR part 771.117(d)), a finding of no significant impact, or a record of decision. The conformity requirements of the Clean Air Act (40 CFR part 93) also must be fully met before the project may be advanced with non-Federal funds.

Similarly, the requirement that a project be included in a locally adopted metropolitan transportation improvement program and federally approved statewide transportation improvement program must be followed before the project may be advanced with non-Federal funds. For planning projects, the project must be included in a locally approved Planning Work Program that has been coordinated with the State. In addition, Federal procurement procedures, as well as the whole range of Federal requirements, must be followed for projects in which Federal funding will be sought in the future. Failure to follow any such requirements could make the project ineligible for Federal funding. In short, this increased administrative flexibility requires a grantee to make certain that no Federal requirements are circumvented through the use of pre-award authority. If a grantee has questions or concerns regarding the environmental requirements, or any other Federal requirements that must be met before incurring costs, it should contact the appropriate regional office.

Before an applicant may incur costs for activities expected to be funded by New Start funds, or for Bus Capital projects not listed in this notice or previous notices, it must first obtain a written LONP from FTA. To obtain an LONP, a grantee must submit a written request accompanied by adequate information and justification to the appropriate FTA regional office.

D. Pre-Award Authority for New Starts Projects

1. Preliminary Engineering and Final Design

New Starts projects are required to follow a federally defined planning process. This process includes, among other things, FTA approval of entry of a project into preliminary engineering and approval to enter final design. The grantee request for entry into preliminary engineering and the request for entry into final design both document the project and how it meets the New Starts statutory criteria for project evaluation and rating in detail. With FTA approval to enter preliminary engineering, and subsequent approval to enter final design, FTA will automatically extend pre-award authority to that phase of project development.

2. Acquisition Activities

In the past, FTA provided applicant grantees pre-award authority to incur costs for right-of-way acquisition for projects funded by sources other than New Starts funds under the conditions described in paragraphs A, B and C, above. With the issuance of this Notice, FTA will extend automatic pre-award authority for the acquisition of real property and real property rights for a New Starts project upon completion of the National Environmental Policy Act (NEPA) review of that project. NEPA review is completed when FTA signs an environmental Record of Decision (ROD) or Finding of No Significant Impact (FONSI), or makes a Categorical Exclusion (CE) determination. The real estate acquisition activities for a proposed New Starts project prior to approval of Federal funding, no longer require a Letter of No Prejudice (LONP) described in section XVII below. Real estate acquisition may now commence upon completion of the NEPA review process.

Most major FTA-assisted projects require the acquisition of residential and/or business properties and the relocation of the occupants. Often real property rights, like railroad track usage rights, are needed. With limited exceptions set forth in FTA's NEPA guidance, the purchase of real property can prejudice the consideration of less damaging alternatives and may not take place until the NEPA process has been completed by FTA's signing of an environmental ROD or FONSI or making a CE determination.

For FTA-assisted projects, acquisition of real property must be made in accordance with the requirements of the Uniform Relocation Assistance and Real Property Acquisition Policies Act (URA) and its implementing regulations (49 CFR part 24). Compliance with the URA regulations requires substantial lead-time. Properties must be appraised, persons who will be displaced must be educated about their relocation rights, proper housing must be found for displaced residents, and businesses must be relocated in accordance with the URA. In some cases, the remediation of contaminated soils or groundwater, or the removal of underground storage tanks must be dealt with during the acquisition process. Potentially responsible parties to the contamination must be identified and their financial liability negotiated or litigated. Acquisition of railroad right-of-way or usage rights is frequently a negotiated transaction that is fundamental to the transit project and therefore should be negotiated as early as possible after the completion of the NEPA process. Delays in the closing on an acquisition can lead to inconvenience or hardship for residents and businesses that are being displaced. Delays can also lead to increases in property values or in the current owners' financial expectations that prolong negotiated settlements.

To facilitate the acquisition process for New Starts projects, FTA will extend automatic pre-award authority to the acquisition of real property and real property rights with the signing of the environmental ROD or FONSI or the CE determination. This pre-award authority is strictly limited to costs incurred to acquire real property and real property rights and to provide relocation assistance in accordance with the URA regulation. It is limited to the acquisition of real property and real property rights that are explicitly identified in the final EIS, EA or CE determination, as needed for the selected alternative that is the subject of the FTA-signed ROD or FONSI, or the CE determination. It does not cover site preparation, demolition, or any other activity that is not strictly necessary to comply with the URA. At FTA's discretion, these other activities may be covered by Letters of No Prejudice, described in section XVII, below. This pre-award authority does not cover the acquisition of construction equipment or vehicles or any other acquisition except that of real property and real property rights.

Grant applicants should use this pre-award authority for real property very discreetly with a clear understanding that it does not constitute a funding commitment by FTA. On occasion, even projects that received a “recommended” rating from FTA under the New Starts regulation (49 CFR part 611) have not received a Full Funding Grant Agreement from FTA simply because the competition for the limited New Starts funds is so intense.

This pre-award authority for the acquisition of real property and real property rights, in accordance with the URA and after FTA's signing of a ROD or FONSI or making a CE determination, is intended to streamline the project delivery process, to enhance relocation services for residents and businesses, and to avoid the escalation in the cost of real property caused by delays in its acquisition. In granting this pre-award authority, FTA is aware that the risk taken by the grant applicant in acquiring real property without an FTA commitment is somewhat mitigated by the re-sale value of the real property, in the event that FTA funding assistance is not ultimately forthcoming and the project is abandoned.

3. National Environmental Policy Act (NEPA) Activities

The National Environmental Policy Act (NEPA) requires that projects with potentially significant adverse impacts proposed for Federal funding assistance be subjected to a public and interagency review of the need for the project, its environmental and community impacts, and alternatives with potentially less damaging actions. Projects for which FTA experience indicates there are no significant impacts are subject to NEPA, but categorically excluded from the more rigorous levels of NEPA review.

FTA regulations (23 CFR 771.105(e)) state that the costs incurred by a grant applicant for the preparation of environmental documents requested by FTA are eligible for FTA assistance. FTA has previously extended pre-award authority to incur costs for environmental reviews and documents from other funding sources but not from New Starts funds.

With issuance of this notice, FTA extends automatic pre-award authority for costs incurred to conduct the NEPA environmental review, including historic preservation activities, and to prepare an EIS, EA, CE, or other environmental documents for a proposed New Starts project, effective as of the date of the federal approval of the relevant Statewide Transportation Improvement Program (STIP) or STIP amendment that includes the project. This pre-award authority applies to New Starts funding, as well as other funding sources. This pre-award authority is strictly limited to costs incurred to conduct the NEPA process and prepare environmental and historic preservation documents. It does not cover preliminary engineering activities beyond those absolutely necessary for NEPA compliance. As with any pre-award authority, FTA participation in costs incurred is not guaranteed.

This pre-award authority for using New Starts funds for environmental and historic preservation work for proposed New Starts projects, as long as those projects are in FTA-approved STIPs, is being provided for the first time with this Notice. It is intended to streamline the NEPA process in accordance with TEA-21 section 1309, “Environmental Streamlining,” by eliminating unnecessary delays in starting up the conceptual engineering and environmental reviews, the public involvement process, and the interagency coordination process for New Starts projects.

XVII. Letters of No Prejudice (LONP) Policy

A. Policy

Letter of No Prejudice (LONP) authority allows an applicant to incur costs on a future project utilizing non-Federal resources with the understanding that the costs incurred subsequent to the issuance of the LONP may be reimbursable as eligible expenses or eligible for credit toward the local match should FTA approve the project at a later date. LONPs are applicable to projects not covered by automatic pre-award authority. The majority of LONPs will be for section 5309 New Starts funds not covered under a full funding grant agreement or for section 5309 Bus funds not yet appropriated by Congress. At the end of an authorization period, there may be LONPs for formula funds beyond the life of the current authorization.

Under most circumstances the LONP will cover the total project. Under certain circumstances the LONP may be issued for local match only, for example, to permit real estate purchased as it becomes available to be used for match for the project at a later date.

B. Conditions

The following conditions apply to all LONPs.

(1) LONP pre-award authority is not a legal or moral commitment that the project(s) will be approved for FTA assistance or that FTA will obligate Federal funds. Furthermore, it is not a legal or moral commitment that all items undertaken by the applicant will be eligible for inclusion in the project(s).

(2) All FTA, DOT, and other Federal statutory, regulatory, procedural, and contractual requirements must be met.

(3) No action will be taken by the grantee that prejudices the legal and administrative findings that the Federal Transit Administrator must make in order to approve a project.

(4) Local funds expended by the grantee pursuant to and after the date of the LONP will be eligible for credit toward local match or reimbursement if FTA later makes a grant for the project(s) or project amendment(s).

(5) The Federal amount of any future FTA assistance to the grantee for the project will be determined on the basis of the overall scope of activities and the prevailing statutory provisions with respect to the Federal/local match ratio at the time the funds are obligated.

(6) For funds to which this pre-award authority applies, the authority expires with the lapsing of the fiscal year funds.

C. Environmental, Planning, and Other Federal Requirements

As with automatic pre-award authority, FTA emphasizes that all of the Federal grant requirements must be met for the project to remain eligible for Federal funding. Compliance with NEPA and other environmental laws or executive orders (e.g., protection of parklands, wetlands, historic properties) must be completed before State or local funds are spent on implementation activities such as final design, construction, or acquisition for a project expected to be subsequently funded with FTA funds. Depending on which class the project is included under in FTA's environmental regulations (23 CFR part 771), the grantee may not advance the project beyond planning and preliminary engineering before FTA has approved either a categorical exclusion (see 23 CFR section 771.117(d)), a finding of no significant impact, or a record of decision. The conformity requirements of the Clean Air Act (40 CFR part 93) also must be fully met before the project may be advanced with non-Federal funds.

Similarly, the requirement that a capital project be included in a locally adopted metropolitan transportation improvement program and federally approved statewide transportation improvement program must be followed before the project may be advanced with non-Federal funds. For planning projects, the project must be included in a locally approved Planning Work Program that has been coordinated with the State. In addition, Federal procurement procedures, as well as the whole range of Federal requirements, must be followed for projects in which Federal funding will be sought in the future. Failure to follow any such requirements could make the project ineligible for Federal funding. In short, this pre-award authority requires a grantee to make certain that no Federal requirements are circumvented. If a grantee has questions or concerns regarding the environmental requirements, or any other Federal requirements that must be met before incurring costs, it should contact the appropriate FTA regional office.

D. Request for LONP

Before an applicant may incur costs for a project not covered by automatic pre-award authority, it must first submit a written request for an LONP to the appropriate regional office. This written request must include a description of the project for which pre-award authority is desired and a justification for the request.

XVIII. FTA Home Page on the Internet

FTA provides extended customer service by making available transit information on the FTA Web site, including this Apportionment Notice. Also posted on the Web site are FTA program Circulars: C9030.1C, Urbanized Area Formula Program: Grant Application Instructions, dated October 1, 1998; C9040.1E, Nonurbanized Area Formula Program Guidance and Grant Application Instructions, dated October 1, 1998; C9070.1E, The Elderly and Persons with Disabilities Program Guidance and Application Instructions, dated October 1, 1998; C9300.1A, Capital Program: Grant Application Instructions, dated October 1, 1998; 4220.1D, Third Party Contracting Requirements, dated April 15, 1996; C5010.1C, Grant Management Guidelines, dated October 1, 1998; and C8100.1B, Program Guidance and Application Instructions for Metropolitan Planning Program Grants, dated October 25, 1996. The FY 2002 Annual List of Certifications and Assurances is also posted on the FTA Web site. Other documents on the FTA Web site of particular interest to public transit providers and users include the annual Statistical Summaries of FTA Grant Assistance Programs, and the National Transit Database Profiles.

FTA circulars are listed at http://www.fta.dot.gov/library/admin/checklist/circulars.htm. Other guidance of interest to Grantees can be found at http://www.fta.dot.gov/grantees/index.html. Grantees should check the FTA Web site frequently to keep up to date on new postings.

XIX. FTA Fiscal Year 2002 Annual List of Certifications and Assurances

The “Fiscal Year 2002 Annual List of Certifications and Assurances” is published in conjunction with this notice. It appears as a separate Part of the Federal Register on the same date whenever possible. The FY 2002 list contains several changes to the previous year's Federal Register publication. As in previous years, the grant applicant should certify electronically. Under certain circumstances the applicant may enter its PIN number in lieu of an electronic signature provided by its attorney, provided the applicant has on file the current affirmation of its attorney in writing dated this Federal fiscal year. The applicant is advised to contact the appropriate FTA Regional Office for electronic procedure information.

The “Fiscal Year 2002 Annual List of Certifications and Assurances” is accessible on the Internet at http://www.fta.dot.gov/library/legal/ca.htm. Any questions regarding this document may be addressed to the appropriate Regional Office.

XX. Grant Application Procedures

All applications for FTA funds should be submitted to the appropriate FTA Regional Office. FTA utilizes TEAM-Web, an Internet accessible electronic grant application system, and all applications should be filed electronically. FTA has provided exceptions to the requirement for electronic filing of applications for certain new, non-traditional grantees in the Job Access and Reverse Commute and Over-the-Road Bus Accessibility programs as well as to a few grantees that have not successfully connected to or accessed TEAM-Web.

In FY 2001, FTA established a 90-day goal for processing and approving all capital, planning and operating grants, including the section 5307 Urbanized Area Formula Program, section 5309 Fixed Guideway Modernization, New Starts and Bus Programs, the section 5310 Elderly and Persons with Disabilities Program, the section 5311 Nonurbanized Area Formula Program, the TEA-21 Job Access and Reverse Commute Program, the TEA-21 Over-the-Road Bus Accessibility Program, section 5303 Metropolitan Planning Program, and section 5313(b) Statewide Planning and Research Program. The 90-day processing time begins with the receipt of a complete application by the Regional Office. In order for an application to be considered complete, it must meet the following requirements: all projects must be contained in an approved STIP (when required), all environmental findings must be made by FTA, there must be an adequate project description, local share must be secure, all required civil rights submissions must have been submitted, and certifications and assurances must be properly submitted. Once an application is complete, the FTA Regional Office will assign a project number and when required submit the application to the Department of Labor for a certification under section 5333(b). The FTA circulars referenced below contain more information regarding application contents and complete applications. State applicants for section 5311 are reminded that they must certify to DOL that all subrecipients have agreed to the standard labor protection warranty for section 5311 and provide DOL with other related information for each grant.

Formula and Capital Investment grant applications should be prepared in conformance with the following FTA Circulars: Program Guidance and Application Instructions for Metropolitan Planning Program Grants—C8100.1B, October 25, 1996; Urbanized Area Formula Program: Grant Application Instructions—C9030.1C, October 1, 1998; Nonurbanized Area Formula Program Guidance and Grant Application Instructions—C9040.1E, October 1, 1998; Section 5310 Elderly and Persons with Disabilities Program Guidance and Application Instructions C9070.1E, October 1, 1998; and Section 5309 Capital Program: Grant Application Instructions—C9300.1A, October 1, 1998. Guidance on preparation of applications for State Planning and Research funds may be obtained from each FTA Regional Office. Copies of circulars are available from FTA Regional Offices as well as the FTA Web site.

Applications for grants containing transferred FHWA funds (STP, CMAQ, and others) should be prepared in the same manner as for funds under the program to which they are being transferred. The application for flexible funds needs to specifically indicate the type and amount of flexible funds being transferred to FTA. The application should also describe which items are being funded with transferred funds, consistent with the Statewide Transportation Improvement Program (STIP).

Issued on: December 26, 2001.
Jennifer L. Dorn,
Administrator.

BILLING CODE 4910-57-P

[FR Doc. 01-32117 Filed 12-31-01; 8:45 am]

BILLING CODE 4910-57-C